DEPARTMENT OF THE INTERIOR

National Park Service

[NPS-SERO-BISC-15012; PPSESEROC3, PPMPSAS1Y.YP0000]

Notice of Availability of the Final Environmental Impact Statement for the Fishery Management Plan, Biscayne National Park, Florida

AGENCY: National Park Service, Department of the Interior.

ACTION: Notice of Availability of the Final Environmental Impact Statement for the Fishery Management Plan, Biscayne National Park, Florida.

SUMMARY: Pursuant to 102(2)(C) of the National Environmental Policy Act of 1969, 42 U.S.C. 4332(2)(C), the National Park Service (NPS), announces the availability of the Final Environmental Impact Statement (FEIS) for the Fishery Management Plan (FMP) for Biscayne National Park (Park), Florida. The authority for publishing this notice is 40 CFR 1506.6.

The FMP is designed to guide fishery management decisions in the park for the next five to ten years. An FMP is needed to guide sustainable use of the Park's fishery-related resources, as recent studies suggest that many of these resources are in decline. The development of the alternatives and the identification of the preferred alternative were based on a combination of public input from three public comment periods and three series of public meetings, the input of the FMP Working Group, inter-agency meetings, and environmental and socioeconomic analyses.

DATES: The NPS will execute a Record of Decision (ROD) [no sooner than 30 days following publication of the Environmental Protection Agency of its Notice of Availability of the FEIS/GMP in the Federal Register.]

ADDRESSES: Biscayne National Park, 9700 SW 328th Street, Homestead, Florida, 33033. Electronic copies of the final document, including responses to public comments received and the entire Biological Opinion issued by the National Marine Fisheries Service, will be available online at http://parkplanning.nps.gov/BISC.

FOR FURTHER INFORMATION CONTACT: Vanessa McDonough, Biscayne National Park, 9700 SW 328th Street, Homestead, FL, 33033; 305-230-1144, extension 027; vanessa_mcdonough@nps.gov.

SUPPLEMENTARY INFORMATION: The Final FMP responds to, and incorporates agency and public comments received on the Draft EIS, which was available for public review from August 5, 2009, through October 6, 2009. Three public meetings were held on September 15th through 17th, 2009, and a total of 337 comments were received. The NPS responses to substantive agency and public comments are provided in Appendix 8 of the FEIS.

The FMP FEIS offers five management alternatives, including the no action alternative (Alternative 1) and four action alternatives. Alternatives 2 through 5 represent progressively increasing levels of change from current regulations and management approaches, and thus would result in differing future levels of fishery resources and gear-related habitat impacts in Biscayne National Park.

Alternative 1: The No-Action alternative serves as a basis of comparison with the other alternatives. Alternative 1 is characterized by the continuation of current fisheries management and no new regulatory changes would be triggered by the establishment of the FMP.

Alternative 2, Maintain at or Above Current Levels: Management actions would be enacted to maintain Biscayne National Park's fisheries resources at or above current existing levels. Actions would be implemented in conjunction with the FWC and could include moderate increases in minimum harvest sizes, moderate decreases in bag limits, and seasonal and/or spatial closures. Numbers of commercial fishers would remain at current levels or decrease over time. Additional Park-specific regulations and management actions could be enacted to maintain current levels only if levels of fish stocks or recreational fishing experience decline, or if fishing-related habitat impacts increase.

Alternative 3, Improve Over Current Levels: Management actions would be enacted in conjunction with the FWC to increase the abundance and average size of fishery-targeted species within the Park by at least 10 percent over existing conditions. A range of management actions to achieve the desired resource status would be considered, and include moderate increases in minimum harvest sizes, moderate decreases in bag limits, seasonal and/or spatial closures. Under this alternative, the recreational Lobster Mini-Season would be eliminated in the Park and regulations would be enacted to prohibit the use of an air providing equipment (e.g. scuba or hookah) or use of gear with a trigger mechanism while spearfishing. Numbers of commercial fishers would remain at current levels or decrease over time. This alternative would require implementation of new regulations governing fishing activities within the Park that would be accomplished through continued collaboration with the FWC. Promulgation of any new regulations would include additional opportunities for public comment.

Alternative 4, Rebuild and Conserve Park Fisheries Resources, (preferred alternative): Management strategies would seek a balance between enjoyment, extraction, and conservation of fishery resources, while ensuring sustainable fishing activities. Management actions would be enacted in conjunction with the FWC to increase the abundance and average size of fishery-targeted species within the Park by at least 20 percent over existing conditions, as well as to reduce fishing-related habitat impacts. Possible management actions to achieve substantial improvement of fisheries resources could include considerable increases in minimum size limits, designation of slot limits, substantial decreases in bag limits, and seasonal and/or spatial closures. Alternative 4 includes many of the same concepts previously described for Alternative 3. However numbers of commercial fishers would decrease over time via establishment of a non-transferable use-or-lose permit system, and a no-trawl zone within the Bay would be proposed for consideration by the FWC. This alternative would require considerable changes to current fishing regulations within the Park, and would be accomplished through continued collaboration with the FWC. Promulgation of any new regulations would include additional opportunities for public comment.

Alternative 5, Restore Park Fisheries Resources: This alternative would require the most change from current management strategies in order to return the sizes and abundance of targeted species within 20 percent of their estimated, historic levels and to prevent further decline in fishing-related habitat impacts. Possible management actions to achieve the desired conditions would be enacted in conjunction with the FWC and could include substantial increases in minimum size limits, designation of slot limits, substantial decreases in bag limits, seasonal and/or spatial closures, prohibition of extractive fishing (i.e. only allowing catch-and-release fishing), and a temporary moratorium on all fishing activity within the Park. Among the five alternatives, this alternative would require the most extreme changes to current fishing regulations within the Park. These changes would be accomplished through continued collaboration with the FWC. Promulgation of any new regulations would include additional opportunities for public comment.

After careful consideration of public and agency comment, Alternative 4 continues to be the NPS preferred alternative because it results in the most equitable balance between protection and recreational enjoyment of the Park's fisheries resources. The NPS feels that Alternative 4 will allow for fishing activities to continue at a sustainable level that does not compromise the long-term health of the Park's fisheries resources.

The responsible official for this final FMP/EIS is the Regional Director for the Southeast Region, Stan Austin.

Dated: May 12, 2014.
Sherri L. Fields,
Acting Regional Director, Southeast Region.

[FR Doc. 2014-12494 Filed 5-28-14; 8:45 am]

BILLING CODE 4310-JD-P